ENVIRONMENTAL PROTECTION AGENCY

[EPA-HQ-OITA-2023-0383; FRL-12070-01-OMS]

Agency Information Collection Activities; Submission to the Office of Management and Budget for Review and Approval; Comment Request; Combined EPA-Tribal Environmental Plan (ETEP) and Indian Environmental General Assistance Program (GAP) Work Plan Template (New)

AGENCY: Environmental Protection Agency (EPA).

ACTION: Notice.

SUMMARY: The Environmental Protection Agency (EPA) has submitted an information collection request (ICR), Combined EPA-Tribal Environmental Plan (ETEP) and Indian Environmental General Assistance Program (GAP) Work Plan Template (EPA ICR Number 2790.01, OMB Control Number 2090-NEW) to the Office of Management and Budget (OMB) for review and approval in accordance with the Paperwork Reduction Act. This is a request for approval of a new collection. Public comments were previously requested via the Federal Register on December 4, 2023 during a 60-day comment period. This notice allows for an additional 30 days for public comments.

DATES: Comments may be submitted on or before August 1, 2024.

ADDRESSES: Submit your comments, referencing Docket ID Number EPA-HQ-OITA-2023-0383 to EPA online using www.regulations.gov (our preferred method), by email to docket_oms@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Abigail Cruz, Office of International and Tribal Affairs/American Indian Environmental Office, 2690R, Environmental Protection Agency, 1200 Pennsylvania Ave. NW, Washington, DC 20460; telephone number: 202-564-5999; fax number: 202-566-9744; email address: cruz.abigail@epa.gov.

SUPPLEMENTARY INFORMATION: This is a request for approval of a new collection. An agency may not conduct or sponsor and a person is not required to respond to a collection of information unless it displays a currently valid OMB control number.

Public comments were previously requested via the Federal Register on December 4, 2023 during a 60-day comment period (88 FR 84140). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1752. For additional information about EPA's public docket, visit http://www.epa.gov/dockets.

Abstract: EPA is seeking approval to begin use of a combined EPA-Tribal Environmental Plan (ETEP) and Indian Environmental General Assistance Program (GAP) work plan template. Use of the template would assist grantees and the Agency by providing Tribes with a standardized and streamlined method to report required information outlined at 40 CFR 35.507, in the 1992 Indian Environmental General Assistance Program Act, and in the 2022 GAP Guidance.

Form numbers: None.

Respondents/affected entities: Federally recognized Tribes and intertribal consortia.

Respondent's obligation to respond: Mandatory if the recipient chooses to combine their GAP EPA-Tribal Environmental Plan and Work Plan into one document.

Estimated number of respondents: 520 (total).

Frequency of response: once every 3-5 years with annual updates.

Total estimated burden: 212.5 hours (per year). Burden is defined at 5 CFR 1320.03(b).

Total estimated cost: $23,035 (per year), which includes $0 annualized capital or operation & maintenance costs.

Changes in the estimates: This is a new collection.

Courtney Kerwin,
Director, Information Engagement Division.

[FR Doc. 2024-14494 Filed 7-1-24; 8:45 am]

BILLING CODE 6560-50-P